DEPARTMENT OF TRANSPORTATION

Federal Aviation Administration

14 CFR Part 97

[Docket No. 30208; Amdt. No. 2016]

Standard Instrument Approach Procedures; Miscellaneous Amendments

AGENCY: Federal Aviation Administration (FAA), DOT.

ACTION: Final rule.

SUMMARY: This amendment establishes, amends, suspends, or revokes Standard Instrument Approach Procedures (SIAP's) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matters incorporated by reference in the amendment is as follows:

For Examination—

1. FAA Rules docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAP's, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes SIAP's. The complete regulatory description of each SIAP is contained in official FAA form documents which are incorporated by reference in this amendment under 5 U.S.C. 552(a), 1 CFR part 51, and § 14 CFR 97.20 of the Federal Aviation Regulations (FAR). The applicable FAA Forms are identified as FAA Form 8260-5. Materials incorporated by reference are available for examination or purchase as stated above.

The large number of SIAP's, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR sections, with the types and effective dates of the SIAPs. This amendment also identifies the airport, its location, the procedure identification and the amendment number.

The Rule

This amendment to part 97 is effective upon publication of each separate SIAP as contained in the transmittal. The SIAP's contained in this amendment are based on the criteria contained in the United States Standard for Terminal Instrument Procedures (TERPS). In developing these SIAPs, the TERPS criteria were applied to the conditions existing or anticipated at the affected airports.

The FAA has determined through testing that current non-localizer type, non-precision instrument approaches developed using the TERPS criteria can be flown by aircraft equipped with a Global Positioning System (GPS) and or flight Management System (FMS) equipment. In consideration of the above, the applicable SIAP's will be altered to include “or GPS or FMS” in the title without otherwise reviewing or modifying the procedure. (Once a stand alone GPS or FMS procedure is developed, the procedure title will be altered to remove “or GPS or FMS” from these non-localizer, non-precision instrument approach procedure titles.)

The FAA has determined through extensive analysis that current SIAP's intended for use by Area Navigation (RNAV) equipped aircraft can be flown by aircraft utilizing various other types of navigational equipment. In consideration of the above, those SIAP's currently designated as “RNAV” will be redesignated as “VOR/DME RNAV” without otherwise reviewing or modifying the SIAP's.

Because of the close and immediate relationship between these SIAP's and safety in air commerce, I find that notice and public procedure before adopting these SIAPs are, impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on October 13, 2000.
L. Nicholas Lacy,
Director, Flight Standards Service.

Adoption of the Amendment

Accordingly, pursuant to the authority delegated to me, part 97 of the Federal Aviation Regulations (14 CFR part 97) is amended as follows:

PART 97—STANDARD INSTRUMENT APPROACH PROCEDURES

1. The authority citation for part 97 continues to read:

Authority: 49 U.S.C. 106(g), 40103, 40106, 40113-40114, 40120, 44502, 44514, 44701, 44719, 44721-44722.

§§ 97.23, 97.27, 97.33, 97.35 [Amended]

2. Amend 97.23, 97.27, 97.33 and 97.35, as appropriate, by adding, revising, or removing the following SIAP's effective at 0901 UTC on the dates specified:

* * * Effective November 30, 2000

Gulkana, AK, Gulkana, VOR or GPS RWY 14, Amdt 6, CANCELLED

Gulkana, AK, Gulkana, VOR RWY 14, Amdt 6

Marysville, CA, Marysville/Yuba County, NDB or GPS RWY 14, Amdt 3C, CANCELLED

Marysville, CA, Marysville/Yuba County, NDB RWY 14, Amdt 3C

Jacksonville, FL, Jacksonville Intl, NDB or GPS RWY 7, Amdt 9C, CANCELLED

Jacksonville, FL, Jacksonville Intl, NDB RWY 7, Amdt 9C

Vero Beach, FL, Vero Beach Muni, VOR or GPS RWY 11R, Amdt 12B, CANCELLED

Vero Beach, FL, Vero Beach Muni, VOR RWY 11R, Amdt 12B

Vero Beach, FL, Vero Beach Muni, VOR/DME or GPS RWY 29L, Amdt 2C, CANCELLED

Vero Beach, FL, Vero Beach Muni, VOR/DME RWY 29L, Amdt 2C

Burlington, IA, Burlington Regional, NDB or GPS RWY 36, Amdt 8C, CANCELLED

Burlington, IA, Burlington Regional, NDB RWY 36, Amdt 8C

Estherville, IA, Estherville Muni, VOR or GPS RWY 16, Amdt 4B, CANCELLED

Estherville, IA, Estherville Muni, VOR RYW 16, Amdt 4B

Estherville, IA, Estherville Muni, NDB or GPS RWY 34, Orig-B, CANCELLED

Estherville, IA, Estherville Muni, NDB RWY 34, Orig-B

Lafayette, IN, Purdue University, VOR/DME RNAV or GPS RWY 28, Amdt 5, CANCELLED

Lafayette, IN, Purdue University, VOR/DME RNAV RWY 28, Amdt 5

Lafayette, IN, Purdue University, NDB or GPS RWY 10, Amdt 12, CANCELLED

Lafayette, IN, Purdue University, NDB RWY 10, Amdt 12

Winamac, IN, Arens Field, NDB or GPS RWY 9, Amdt 1, CANCELLED

Winamac, IN, Arens Field, NDB RWY 9, Amdt 1

Alexandria, LA, Alexandria Intl, VOR or GPS RWY 14, Amdt 1, CANCELLED

Alexandria, LA, Alexandria Intl, VOR RWY 14, Amdt 1

Hyannis, MA, Barnstable Muni-Boardman/Polando Field, NDB or GPS RWY 24, Amdt 9C, CANCELLED

Hyannis, MA, Barnstable Muni-Boardman/Polando Field, NDB RWY 24, Amdt 9C

Grand Island, NE, Central Nebraska Regional, VOR/DME or GPS RWY 31, Amdt 6, CANCELLED

Grand Island, NE, Central Nebraska Regional, VOR/DME RWY 31, Amdt 6

Grand Island, NE, Central Nebraska Regional, VOR/DME or GPS RWY 35, Amdt 14, CANCELLED

Grand Island, NE, Central Nebraska Regional, VOR/DME RWY 35, Amdt 14

Grand Island, NE, Central Nebraska Regional, VOR or GPS RWY 13, Amdt 18, CANCELLED

Grand Island, NE, Central Nebraska Regional, VOR RWY 13, Amdt 18

Grand Island, NE, Central Nebraska Regional, VOR or GPS RWY 17, Amdt 23, CANCELLED

Grand Island, NE, Central Nebraska Regional, VOR RWY 17, Amdt 23

McCook, NE, McCook Muni, VOR or GPS RWY 21, Amdt 4C, CANCELLED

McCook, NE, McCook Muni, VOR RWY 21, Amdt 4C

Norfolk, NE, Karl Stefan Memorial, VOR or GPS RWY 13, Amdt 6a, CANCELLED

Norfolk, NE, Karl Stefan Memorial, VOR RWY 13, Amdt 6a

Norfolk, NE, Karl Stefan Memorial, VOR or GPS RWY 19, Amdt 7, CANCELLED

Norfolk, NE, Karl Stefan Memorial, VOR RWY 19, Amdt 7

Norfolk, NE, Karl Stefan Memorial, VOR or GPS RWY 31, Amdt 6A, CANCELLED

Norfolk, NE, Karl Stefan Memorial, VOR RWY 31, Amdt 6A

O'Neill, NE, The O'Neill Muni-John L. Baker Field, VOR or GPS RWY 13, Amdt 5A, CANCELLED

O'Neill, NE, The O'Neill Muni-John L. Baker Field, VOR RWY 13, Amdt 5A

O'Neill, NE, The O'Neill Muni-John L. Baker Field, VOR or GPS RWY 31, Amdt 1A, CANCELLED

O'Neill, NE, The O'Neill Muni-John L. Baker Field, VOR RWY 31, Amdt 1A

Montgomery, NY, Orange County, VOR or GPS RWY 8, Amdt 9, CANCELLED

Montgomery, NY, Orange County, VOR RWY 8, Amdt 9

Pottsville, PA, Schuylkill County/Joe Zerbey, VOR/DME RNAV or GPS RWY 29, Amdt 3, CANCELLED

Pottsville, PA, Schuylkill County/Joe Zerbey, VOR/DME RNAV RWY 29, Amdt 3

Anderson, SC, Anderson Regional, VOR or GPS RWY 5, Amdt 9A, CANCELLED

Anderson, SC, Anderson Regional, VOR RWY 5, Amdt 9A

Rapid City, SD, Rapid City Regional, VOR or TACAN or GPS RWY 32, Amdt 24A, CANCELLED

Rapid City, SD, Rapid City Regional, VOR or TACAN RWY 32, Amdt 24A

Smithville, TN, Smithville Muni, NDB or GPS RWY 24, Amdt 2, CANCELLED

Smithville, TN, Smithville Muni, NDB RWY 24, Amdt 2

Bonham, TX, Jones Field, NDB or GPS RWY 17, Amdt 3, CANCELLED

Bonham, TX, Jones Field, NDB RWY 17, Amdt 3

Seminole, TX, Gaines County, NDB or GPS RWY 35, Orig, CANCELLED

Seminole, TX, Gaines County, NDB RWY 35, Orig

Wendover, UT, Wendover, VOR/DME or TACAN or GPS-A, Amdt 2, CANCELLED

Wendover, UT, Wendover, VOR/DME or TACAN, Amdt 2

Norfolk, VA, Norfolk Intl, NDB/DME or GPS RWY 23, Orig-B, CANCELLED

Norfolk, VA, Norfolk Intl, NDB/DME RWY 23, Orig-B

[FR Doc. 00-26952 Filed 10-19-00; 8:45 am]

BILLING CODE 4910-13-M